DEPARTMENT OF JUSTICE

[OMB Number 1121-NEW]

Agency Information Collection Activities; Proposed Collection; Comments Requested: Body Armor in Correctional Institutions Survey

ACTION: 30-Day notice.

The Department of Justice (DOJ), National Institute of Justice (NIJ), will be submitting the following information collection request to the Office of Management and Budget (OMB) for review and approval in accordance with the Paperwork Reduction Act of 1995. The proposed information collection is published to obtain comments from the public and affected agencies. Comments are encouraged and will be accepted for “thirty days” until August 1, 2012. This process is conducted in accordance with 5 CFR 1320.10.

Written comments concerning this information collection should be sent to the Office of Information and Regulatory Affairs, Office of Management and Budget, Attn: DOJ Desk Officer. The best way to ensure your comments are received is to email them to oira_submission@omb.eop.gov or fax them to 202-395-7285. All comments should reference the 8 digit OMB number for the collection or the title of the collection. If you have questions concerning the collection, please call Mark E. Greene at 202-307-3384.

Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of this information collection:

(1) Type of Information Collection: Establishment survey and initial approval of collection.

(2) Title of Form/Collection: Body Armor in Correctional Institutions Survey. The collections include the forms Body Armor Administrative Agency-Level Survey and Body Armor Individual-level Correctional Officer Survey.

(3) Agency form number, if any, and the applicable component of the Department of Justice sponsoring the collection: Form Number: None. National Institute of Justice, Office of Justice Programs, Department of Justice.

(4) Affected public who will be asked or required to respond, as well as a brief abstract: Primary: Federal and State correctional facility administrators and correctional officers. This collection is the only effort that provides an ability to assess the use of body armor by correctional officers to mitigate the risks associated with prison environments. There is little data on body armor use by correctional officers, such as the proportion who have body armor, the rate of use, the decision-making factors which inform use, and the effects of institutional policies on use rates. This will be the first nationally representative survey of corrections officers to understand the context of using armor in correctional settings and establish a prioritized list of factors affecting the use of armor. This collection will enable Federal and State corrections officers; Federal and State corrections administrators; local and tribal corrections personnel; legislators; researchers; and government agencies to understand the risks faced by corrections officers, to identify key barriers to the use of body armor, and to develop approaches to overcome those barriers.

(a) For the Body Armor Administrative Agency-Level Survey, the chief executive officer from 130 correctional facilities selected from a census directory of all Federal and State prisons will be asked to select one administrator to respond.

(b) For the Body Armor Individual-level Correctional Officer Survey, cross-sectional random samples of correctional officers of all ranks will be asked to respond from each of the 130 facilities queried in the Administrative Survey to obtain a representative sample of 1,089 correctional officers from across the nation's Federal and State prisons.

(5) An estimate of the total number of respondents and the amount of time estimated for an average respondent to respond: For the Body Armor Administrative Agency-Level Survey, the chief executive officer from 130 correctional facilities selected from a census directory of all Federal and State prisons will be asked to select one administrator to respond to a survey that will require an estimated maximum of 45 minutes to complete. For the Body Armor Individual-level Correctional Officer Survey, 1,089 correctional officers of all ranks from the 130 facilities from the Administrative Survey will be asked to respond to a survey that will require an estimated maximum of 45 minutes to complete. The officers will be selected from cross-sectional random samples to obtain a representative sample from across the nation's Federal and State prisons.

(6) An estimate of the total public burden (in hours) associated with the collection: There are an estimated 915 total burden hours associated with this collection.

If additional information is required contact: Jerri Murray, Department Clearance Officer, United States Department of Justice, Justice Management Division, Policy and Planning Staff, Two Constitution Square, 145 N Street NE., Room 2E-508, Washington, DC 20530.

June 26, 2012.
Jerri Murray,
Department Clearance Officer, PRA, U.S. Department of Justice.

[FR Doc. 2012-16081 Filed 6-29-12; 8:45 am]

BILLING CODE 4410-18-P